DEPARTMENT OF COMMERCE

Bureau of Industry and Security

15 CFR Part 744

[Docket No. 0809191235-81395-01]

RIN 0694-AE48

Addition of Certain Persons to the Entity List: Persons Acting Contrary to the National Security or Foreign Policy Interests of the United States

AGENCY: Bureau of Industry and Security, Commerce.

ACTION: Final rule.

SUMMARY: This rule amends the Export Administration Regulations (EAR) by adding additional persons to the Entity List (Supplement No. 4 to Part 744) on the basis of Section 744.11 of the EAR. This rule is the second rule to add persons to the Entity List on the basis of Section 744.11 of the EAR. These additional persons being added to the Entity List have been determined by the U.S. Government to be acting contrary to the national security or foreign policy interests of the United States. The first rule that added persons to the Entity List on the basis of Section 744.11 of the EAR was published on September 22, 2008 (73 FR 54499).

The Entity List provides notice to the public that certain exports and reexports to parties identified on the Entity List require a license from the Bureau of Industry and Security (BIS) and that availability of License Exceptions in such transactions is limited.

DATES: Effective Date: This rule is effective December 5, 2008. Although there is no formal comment period, public comments on this regulation are welcome on a continuing basis.

ADDRESSES: You may submit comments, identified by RIN 0694-AE48, by any of the following methods:

E-mail: publiccomments@bis.doc.gov Include “RIN 0694-AE48” in the subject line of the message.

Fax: (202) 482-3355. Please alert the Regulatory Policy Division, by calling (202) 482-2440, if you are faxing comments.

Mail or Hand Delivery/Courier: Timothy Mooney, U.S. Department of Commerce, Bureau of Industry and Security, Regulatory Policy Division, 14th St. & Pennsylvania Avenue, NW., Room 2705, Washington, DC 20230, Attn: RIN 0694-AE48.

Send comments regarding the collection of information associated with this rule, including suggestions for reducing the burden, to Jasmeet K. Seehra, Office of Management and Budget (OMB), by e-mail to Jseehra@omb.eop.gov, or by fax to (202) 395-7285; and to the Regulatory Policy Division, Bureau of Industry and Security, Department of Commerce, 14th St. & Pennsylvania Avenue, NW., Room 2705, Washington, DC 20230. Comments on this collection of information should be submitted separately from comments on the final rule (i.e. RIN 0694-AE48)—all comments on the latter should be submitted by one of the three methods outlined above.

FOR FURTHER INFORMATION CONTACT: Karen Nies-Vogel, End-User Review Committee, Office of the Assistant Secretary, Export Administration, Bureau of Industry and Security, Department of Commerce, Phone: (202) 482-3811, Fax: (202) 482-3911, E-mail: kniesv@bis.doc.gov.

SUPPLEMENTARY INFORMATION:

Background

In Supplement No. 4 to part 744 (The Entity List), this rule adds fifteen (15) persons to the Entity List on the basis of Section 744.11 of the EAR. In total, this rule adds 16 new entries to the Entity List, including one additional entry for a newly added person with multiple addresses. The Entity List provides notice to the public that certain exports and reexports to parties identified on the Entity List require a license from the Bureau of Industry and Security (BIS) and that availability of License Exceptions in such transactions is limited.

These additional persons being added to the Entity List have been determined by the U.S. Government to be acting contrary to the national security or foreign policy interests of the United States. Specifically, these parties are of concern to the United States Government under Section 744.11 (License Requirements that Apply to Entities Acting Contrary to the National Security or Foreign Policy Interests of the United States) of the EAR.

ERC Entity List Decisions

Pursuant to Supplement No. 5 to Part 744 (Procedures for End-User Review Committee Entity List Decisions), the End-User Review Committee (ERC) made the decision to add these 15 persons to the Entity List on the basis of Section 744.11. The ERC, composed of representatives of the Departments of Commerce, State, Defense, Energy and, where appropriate, the Treasury, makes all decisions to make additions to, removals from or changes to the Entity List. The ERC is chaired by the Department of Commerce and will make all decisions to add an entry to the Entity List by majority vote and all decisions to remove or modify an entry by unanimous vote.

The ERC reviewed Section 744.11(b) (Criteria for Revising the Entity List) in making this determination to add these persons to the Entity List. Under that paragraph, entities for which there is reasonable cause to believe, based on specific and articulable facts, that the entity has been involved, is involved, or poses a significant risk of being or becoming involved in activities that are contrary to the national security or foreign policy interests of the United States and those acting on behalf of such entities may be added to the Entity List pursuant to Section 744.11.

Paragraph (b) includes an illustrative list of activities that could be contrary to the national security or foreign policy interests of the United States. This illustrative list of activities of concern is described under paragraphs (b)(1)-(b)(5). The persons being added to the Entity List with this rule have been determined by the ERC to be involved in activities that could be contrary to the national security or foreign policy interests of the United States.

Implementation of the ERC Decision

This rule implements the decision of the ERC to add these 15 persons to the Entity List on the basis of Section 744.11 of the EAR. For all of the persons being added to the Entity List, the ERC decided to specify a license requirement for all items subject to the EAR and establish a license application review policy of a general policy of denial. A license requirement applies to any transaction in which items are to be exported or reexported to such persons or in which such persons act as purchaser, intermediate consignee, ultimate consignee, or end-user. In addition, the ERC decided that no license exceptions are available for shipments to those persons being added to the Entity List.

Specifically, this rule adds the following 15 persons/16 entries to the Entity List:

Iran

(1) Amir Hosein Atabaki, 5 Yaas St, Unit 4, Tehran, Iran;

(2) H. Farahani, Ground Floor—No. 31, Alborz Alley, EnghelabSt, Tehran, Iran;

(3) Mahdi Electronics, Ground Floor—No. 31 Alborz Alley, EnghelabSt, Tehran, Iran;

(4) Naser Golshekan, Ground Floor—No. 31, Alborz Alley, EnghelabSt, Tehran, Iran;

(5) Pakgostar Company, Appt 501 & 502, Borje Sefid Bldg, Pasadaran Avenue, Tehran 1946963651, Iran;

(6) Raht Aseman, No. 1.2, Mosque Alley, Mohammadi St, North Bahar Ave, Tehran, Iran;

(7) Reza Zahedipour, 5 Yaas St, Unit 4, Tehran, Iran;

(8) Safir Electronics, Ground Floor—No. 31 Alborz Alley, EnghelabSt. Tehran, Iran; and

(9) Sahab Phase, 5 Yaas St, Unit 4 Tehran, Iran.

Singapore

(10) Brian Douglas Woodford, 1 Scotts Road, Suite 25-06 Shaw Centre, Singapore 228208 (See alternate listing under the United Kingdom);

(11) Gryphon Aerospace, 36 Lorong N Telok Kurau Unit #03-03, Singapore 425160;

(12) Monarch Aviation, 1 Scotts Road, Suite 25-06 Shaw Centre, Singapore 228208; and

(13) Yip Kum Kuan, 36 Lorong N Telok Kurau, Unit #03-03, Singapore 425160.

United Kingdom

(14) Brian Douglas Woodford, (See alternate address under Singapore);

(15) Farshid Gillardian, a.k.a., Isaac Gill, Isaac Gillardian, London, United Kingdom; and

(16) MCES, London, United Kingdom.

Under these entries on the Entity List, a BIS license is required for the export or reexport of any item subject to the EAR to any of the persons listed above, including any transaction in which any of the listed persons will act as purchaser, intermediate consignee, ultimate consignee, or end-user of the items. This listing of these persons also prohibits the use of License Exceptions (see part 740 of the EAR) for exports and reexports of items subject to the EAR involving such persons.

Technical Corrections and Clarifications to Previously Listed Entities

This rule makes two technical corrections, to correct two inadvertent misspellings of Kuala Lumpur that were included in two Malaysian entities added to the Entity List in the EAR final rule published on September 22, 2008 (73 FR 54499). In addition, this rule makes a clarification to one U.A.E. entity added to the Entity List, in the final rule published on September 22, 2008. This U.A.E. entity, Advanced Technology General Trading Company, is a co-located entity with addresses listed under the U.A.E. and Kuwait. However, the same Kuwaiti address was listed under both the U.A.E. and Kuwaiti entries for this entity. This rule removes the Kuwaiti address from the U.A.E. entry of this entity and provides a cross reference to the alternate address under Kuwait.

Savings Clause

Shipments of items removed from eligibility for a License Exception or export or reexport without a license (NLR) as a result of this regulatory action that were on dock for loading, on lighter, laden aboard an exporting or reexporting carrier, or en route aboard a carrier to a port of export or reexport, on December 5, 2008, pursuant to actual orders for export or reexport to a foreign destination, may proceed to that destination under the previous eligibility for a License Exception or export or reexport without a license (NLR) so long as they are exported or reexported before January 5, 2009. Any such items not actually exported or reexported before midnight, on January 5, 2009, require a license in accordance with this rule.

Although the Export Administration Act expired on August 20, 2001, the President, through Executive Order 13222 of August 17, 2001, 3 CFR, 2001 Comp., p. 783 (2002), as extended by the Notice of July 23, 2008, 73 FR 43603 (July 23, 2008), has continued the Export Administration Regulations in effect under the International Emergency Economic Powers Act.

Rulemaking Requirements

1. This rule has been determined to be not significant for purposes of Executive Order 12866.

2. Notwithstanding any other provision of law, no person is required to respond to nor be subject to a penalty for failure to comply with a collection of information, subject to the requirements of the Paperwork Reduction Act of 1995 (44 U.S.C. 3501 et seq.) (PRA), unless that collection of information displays a currently valid Office of Management and Budget (OMB) Control Number. This regulation involves collections previously approved by the OMB under control numbers 0694-0088, “Multi-Purpose Application,” which carries a burden hour estimate of 58 minutes to prepare and submit form BIS-748. Miscellaneous and recordkeeping activities account for 12 minutes per submission. Total burden hours associated with the Paperwork Reduction Act and Office and Management and Budget control number 0694-0088 are expected to increase slightly as a result of this rule.

3. This rule does not contain policies with Federalism implications as that term is defined in Executive Order 13132.

4. The provisions of the Administrative Procedure Act (5 U.S.C. 553) requiring notice of proposed rulemaking, the opportunity for public participation, and a delay in effective date, are inapplicable because this regulation involves a military or foreign affairs function of the United States. (See 5 U.S.C. 553(a)(1)). Further, no other law requires that a notice of proposed rulemaking and an opportunity for public comment be given for this rule. Because a notice of proposed rulemaking and an opportunity for public comment are not required to be given for this rule by 5 U.S.C. 553, or by any other law, the analytical requirements of the Regulatory Flexibility Act, 5 U.S.C. 601 et seq., are not applicable.

List of Subjects in 15 CFR Part 744

Exports, Reporting and recordkeeping requirements, Terrorism.

Accordingly, part 744 of the Export Administration Regulations (15 CFR parts 730-774) is amended as follows:

PART 744—[AMENDED]

1. The authority citation for 15 CFR part 744 is revised to read as follows:

Authority: 50 U.S.C. app. 2401 et seq.; 50 U.S.C. 1701 et seq.; 22 U.S.C. 3201 et seq.; 42 U.S.C. 2139a; 22 U.S.C. 7201 et seq.; 22 U.S.C. 7210; E.O. 12058, 43 FR 20947, 3 CFR, 1978 Comp., p. 179; E.O. 12851, 58 FR 33181, 3 CFR, 1993 Comp., p. 608; E.O. 12938, 59 FR 59099, 3 CFR, 1994 Comp., p. 950; E.O. 12947, 60 FR 5079, 3 CFR, 1995 Comp., p. 356; E.O. 13026, 61 FR 58767, 3 CFR, 1996 Comp., p. 228; E.O. 13099, 63 FR 45167, 3 CFR, 1998 Comp., p. 208; E.O. 13222, 66 FR 44025, 3 CFR, 2001 Comp., p. 783; E.O. 13224, 66 FR 49079, 3 CFR, 2001 Comp., p. 786; Notice of July 23, 2008, 73 FR 43603 (July 25, 2008); Notice of November 10, 2008, 73 FR 67097 (November 12, 2008).

2. Supplement No. 4 to part 744 is amended:

(a) By adding under Iran, in alphabetical order, nine Iranian entities;

(b) By revising under Malaysia, two Malaysian entities;

(c) By adding under Singapore, in alphabetical order, four Singaporean entities;

(d) By revising under United Arab Emirates, one U.A.E. entity, and

(e) By adding, in alphabetical order, the country of the United Kingdom and three UK entities, to read as follows:

Supplement No. 4 to Part 744—Entity List
Country | Entity | License requirement | License review policy | Federal Register citation
* * * * * * *
Iran | Amir Hosein Atabaki, 5 Yaas St, Unit 4, Tehran, Iran | For all items subject to the EAR. (See § 744.11 of the EAR) | Presumption of denial | 73 FR [INSERT FR PAGE NUMBER] 12/5/08.
* * * * * * *
| H. Farahani, Ground Floor—No. 31, Alborz Alley, EnghelabSt, Tehran, Iran | For all items subject to the EAR. (See § 744.11 of the EAR) | Presumption of denial | 73 FR [INSERT FR PAGE NUMBER] 12/5/08.
* * * * * * *
| Mahdi Electronics, Ground Floor—No. 31 Alborz Alley, EnghelabSt, Tehran, Iran | For all items subject to the EAR. (See § 744.11 of the EAR) | Presumption of denial | 73 FR [INSERT FR PAGE NUMBER] 12/5/08.
* * * * * * *
| Naser Golshekan, Ground Floor—No. 31, Alborz Alley, EnghelabSt, Tehran, Iran | For all items subject to the EAR. (See § 744.11 of the EAR) | Presumption of denial | 73 FR [INSERT FR PAGE NUMBER] 12/5/08.
* * * * * * *
| Pakgostar Company, Appt 501 & 502, Borje Sefid Bldg, Pasadaran Avenue, Tehran 1946963651, Iran | For all items subject to the EAR. (See § 744.11 of the EAR) | Presumption of denial | 73 FR [INSERT FR PAGE NUMBER] 12/5/08.
* * * * * * *
| Raht Aseman, No. 1.2, Mosque Alley, Mohammadi St, North Bahar Ave, Tehran, Iran | For all items subject to the EAR. (See § 744.11 of the EAR) | Presumption of denial | 73 FR [INSERT FR PAGE NUMBER] 12/5/08.
| Reza Zahedipour, 5 Yaas St, Unit 4, Tehran, Iran | For all items subject to the EAR. (See § 744.11 of the EAR) | Presumption of denial | 73 FR [INSERT FR PAGE NUMBER] 12/5/08.
| Safir Electronics, Ground floor No. 31 Alborz Alley, EnghelabSt. Tehran, Iran | For all items subject to the EAR. (See § 744.11 of the EAR) | Presumption of denial | 73 FR [INSERT FR PAGE NUMBER] 12/5/08.
| Sahab Phase, 5 Yaas St, Unit 4 Tehran, Iran | For all items subject to the EAR. (See § 744.11 of the EAR) | Presumption of denial | 73 FR [INSERT FR PAGE NUMBER] 12/5/08.
* * * * * * *
Malaysia | Analytical Solutions, #GB (Ground Floor), Pearl Tower, O.G. Heights, Jalan Awan Cina, 58200 Kuala Lumpur, Malaysia | For all items subject to the EAR. (See § 744.11 of the EAR) | Presumption of denial | 73 FR 54508 9/22/08. 73 FR [INSERT FR PAGE NUMBER] 12/5/08.
* * * * * * *
| Mohd Ansari, #GB (Ground Floor), Pearl Tower, O.G. Heights, Jalan Awan Cina, 58200 Kuala Lumpur, Malaysia | For all items subject to the EAR. (See § 744.11 of the EAR) | Presumption of denial | 73 FR 54508 9/22/08. 73 FR [INSERT FR PAGE NUMBER] 12/5/08.
* * * * * * *
Singapore | Brian Douglas Woodford, 1 Scotts Road, Suite 25-06 Shaw Centre, Singapore 228208 (See alternate address under the United Kingdom) | For all items subject to the EAR. (See § 744.11 of the EAR) | Presumption of denial | 73 FR [INSERT FR PAGE NUMBER] 12/5/08.
* * * * * * *
| Gryphon Aerospace, 36 Lorong N Telok Kurau Unit #03-03, Singapore 425160 | For all items subject to the EAR. (See § 744.11 of the EAR) | Presumption of denial | 73 FR [INSERT FR PAGE NUMBER] 12/5/08.
| Monarch Aviation, 1 Scotts Road, Suite 25-06 Shaw Centre, Singapore 228208 | For all items subject to the EAR. (See § 744.11 of the EAR) | Presumption of denial | 73 FR [INSERT FR PAGE NUMBER] 12/5/08.
* * * * * * *
| Yip Kum Kuan, 36 Lorong N Telok Kurau, Unit #03-03, Singapore 425160 | For all items subject to the EAR. (See § 744.11 of the EAR) | Presumption of denial | 73 FR [INSERT FR PAGE NUMBER] 12/5/08.
* * * * * * *
United Arab Emirates | Advanced Technology General Trading Company, U.A.E. (See alternate address under Kuwait) | For all items subject to the EAR. (See § 744.11 of the EAR) | Presumption of denial | 73 FR 54509 9/22/08. 73 FR [INSERT FR PAGE NUMBER] 12/5/08.
* * * * * * *
United Kingdom | Brian Douglas Woodford (See alternate address under Singapore) | For all items subject to the EAR. (See § 744.11 of the EAR) | Presumption of denial | 73 FR [INSERT FR PAGE NUMBER] 12/5/08.
| Farshid Gillardian, a.k.a., Isaac Gill, Isaac Gillardian, London, United Kingdom | For all items subject to the EAR. (See § 744.11 of the EAR) | Presumption of denial | 73 FR [INSERT FR PAGE NUMBER] 12/5/08.
| MCES, London, United Kingdom | For all items subject to the EAR. (See § 744.11 of the EAR) | Presumption of denial | 73 FR [INSERT FR PAGE NUMBER] 12/5/08.

Dated: December 2, 2008.
Christopher R. Wall,
Assistant Secretary for Export Administration.

[FR Doc. E8-28872 Filed 12-4-08; 8:45 am]

BILLING CODE 3510-33-P